DEPARTMENT OF ENERGY

Federal Energy Regulatory Commission

[Docket No. CP13-502-000]

Iroquois Gas Transmission System, L.P.; Notice of Intent To Prepare an Environmental Impact Statement for the Proposed Wright Interconnect Project and Request for Comments on Environmental Issues

The staff of the Federal Energy Regulatory Commission (FERC or Commission) will prepare an environmental impact statement (EIS) that will discuss the environmental impacts of two related projects proposed by Iroquois Gas Transmission System, L.P. (Iroquois) and Constitution Pipeline Company, LLC (Constitution). On September 7, 2012, the FERC issued a Notice of Intent to Prepare an Environmental Impact Statement for the Planned Constitution Pipeline Project, Request for Comments on Environmental Issues, and Notice of Public Scoping Meetings. At that time, Constitution proposed to construct a new compressor station as part of its Constitution Pipeline Project (which also included other facilities). However, Constitution has since identified that the objectives of the new compressor station could be met by making modifications at Iroquois' existing Wright Compressor Station in Schoharie County, New York. The other aspects of the Constitution Pipeline Project remain unchanged.¹

¹ On June 13, 2013, Constitution filed an application with the FERC to construct and operate approximately 122 miles of 30-inch-diameter pipeline in various counties in New York and Pennsylvania in Docket No. CP13-499-000.

These modifications, known as the Wright Interconnect Project (WIP), would render the proposed compressor station for the Constitution Pipeline Project unnecessary. The impacts of Constitution's modified proposal together with the WIP will be discussed collectively in one EIS. This EIS, analyzing both the Constitution Pipeline Project and the WIP, will be used by the Commission in its decision-making process to determine whether the two related projects are in the public convenience and necessity.

This notice announces the opening of the scoping process that the Commission will use to gather input from the public and interested agencies on the WIP. Your input will help us ² determine what issues need to be evaluated in the EIS. Please note that the scoping period will close on August 9, 2013. Scoping comments received previously on the Constitution Pipeline Project will be considered in our EIS and do not need to be resubmitted.

² “We,” “us,” and “our” refer to the environmental staff of the Office of Energy Projects (OEP).

This notice is being sent to the Commission's current environmental mailing list for the WIP. State and local government representatives are asked to notify their constituents of this proposed project and encourage them to comment on their areas of concern.

Summary of the Proposed Project

Iroquois has proposed to construct and operate the WIP within the property boundary, (but outside of the existing fence-line) of its existing Wright Compressor Station in Schoharie County, New York. The WIP would provide firm natural gas capacity to Constitution through a long-term capacity lease agreement.

The proposed WIP would consist of the following:

• Construction of the Constitution Transfer Station, which would contain two approximately 10,900-horsepower turbo-compressors, natural gas coolers, gas filters, and an emergency generator;

• Modifications to the existing Wright Compressor Station including the installation of a blend valve and upgraded piping;

• Installation of additional pumps on the existing Wright Odorization System to increase reliability;

• Upsizing gas piping and measurement controls at the existing Wright Meter Station to accommodate additional gas delivery to the Tennessee Gas Pipeline Company, LLC's system; and

• Construction of an interconnect between the proposed Constitution Pipeline Project and Iroquois' Wright Compressor Station.

The general location of the proposed project facilities is shown in Appendix 1.³

³ The appendices referenced in this notice are not being printed in the Federal Register. Copies of appendices were sent to all those receiving this notice in the mail and are available at www.ferc.gov using the link called “eLibrary” or from the Commission's Public Reference Room, 888 First Street NE., Washington, DC 20426, or call 202-502-8371. For instructions on connecting to eLibrary, refer to the last “Additional Information” section of this notice.

Land Requirements for Construction

Construction of the WIP would disturb approximately 12.5 acres of land already owned by Iroquois, but outside the fence-line of its existing facility. Following construction, about 7.5 acres would be used for permanent operation of the facilities. The remaining acreage would be restored and allowed to revert to former uses.

The EIS Process

The National Environmental Policy Act (NEPA) requires the Commission to take into account the environmental impacts that could result from an action whenever it considers the issuance of a Certificate of Public Convenience and Necessity. NEPA also requires us to discover and address concerns the public may have about proposals. This process is referred to as scoping. The main goal of the scoping process is to focus the analysis in the EIS on the important environmental issues. By this notice, the Commission requests public comments on the scope of the issues related to the WIP to address in the EIS. We will consider all filed comments during the preparation of the EIS.

In the EIS we will discuss impacts that could occur as a result of the construction and operation of the WIP under these general headings:

• Geology and soils;

• Land use;

• Water resources, fisheries, and wetlands;

• Vegetation and wildlife;

• Endangered and threatened species;

• Cultural resources;

• Air quality and noise;

• Socioeconomics;

• Cumulative impacts; and

• Public safety.

We will also evaluate reasonable alternatives to the project or portions of the project, and make recommendations on how to lessen or avoid impacts on the various resource areas.

The EIS will present our independent analysis of the issues. The EIS will be published and distributed for public comment. We will publish and distribute the draft EIS for public comment. After the comment period, we will consider all timely comments and revise the document, as necessary, before issuing a final EIS. To ensure we have the opportunity to consider and address your comments, please carefully follow the instructions in the Public Participation section on page 5.

With this notice, we are asking agencies with jurisdiction and/or special expertise with respect to environmental issues to formally cooperate with us in the preparation of the EIS.⁴ These agencies may choose to participate once they have evaluated the proposal relative to their responsibilities. Agencies that would like to request cooperating agency status should follow the instructions for filing comments provided under the “Public Participation” section of this notice. The U.S. Army Corps of Engineers, U.S. Environmental Protection Agency, U.S. Fish and Wildlife Service, New York State Department of Agriculture and Markets, and the Federal Highway Administration are already participating as cooperating agencies in the preparation of the EIS to satisfy their NEPA responsibilities associated with these proposals.

⁴ The Council on Environmental Quality regulations addressing cooperating agency responsibilities are at Title 40, Code of Federal Regulations, § 1501.6.

Consultations Under Section 106 of the National Historic Preservation Act

In accordance with the Advisory Council on Historic Preservation's implementing regulations for section 106 of the National Historic Preservation Act, we are using this notice to initiate consultation with applicable State Historic Preservation Office (SHPO), and to solicit their and those of other governmental agencies, interested Indian tribes, and the public on the project's potential effects on historic properties.⁵ We will define the project-specific Area of Potential Effects (APE) in consultation with the SHPO as the project develops. On natural gas facility projects, the APE at a minimum encompasses all areas subject to ground disturbance (examples include construction right-of-way, contractor/pipe storage yards, compressor stations, and access roads). Our EIS for this project will document our findings on the impacts on historic properties and summarize the status of consultations under section 106.

⁵ The Advisory Council on Historic Preservation's regulations are at Title 36, Code of Federal Regulations, Part 800. Those regulations define historic properties as any prehistoric or historic district, site, building, structure, or object included in or eligible for inclusion in the National Register of Historic Places.

Public Participation

You can make a difference by providing us with your specific comments or concerns about the WIP. Your comments should focus on the potential environmental effects, reasonable alternatives, and measures to avoid or lessen environmental impact. The more specific your comments, the more useful they will be. To ensure that your comments are timely and properly recorded, please send your comments so that they will be received in Washington, DC on or before August 9, 2013.

For your convenience, there are three methods which you can use to submit your comments to the Commission. In all instances please reference the project docket number (CP13-502-000) with your submission. The Commission encourages electronic filing of comments and has expert eFiling staff available to assist you at 202-502-8258 or efiling@ferc.gov.

(1) You can file your comments electronically using the eComment feature on the Commission's Web site (www.ferc.gov) under the link to Documents and Filings. This is an easy method for interested persons to submit brief, text-only comments on a project;

(2) You can file your comments electronically using the eFiling feature on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing”; or

(3) You can file a paper copy of your comments by mailing them to the following address: Kimberly D. Bose, Secretary, Federal Energy Regulatory Commission, 888 First Street NE., Room 1A, Washington, DC 20426.

Environmental Mailing List

The environmental mailing list includes federal, state, and local government representatives and agencies; elected officials; environmental and public interest groups; Native American Tribes; other interested parties; and local libraries and newspapers. This list also includes all affected landowners (as defined in the Commission's regulations) as individuals who own homes within 0.5 mile of the proposed WIP. We will update the environmental mailing list as the analysis proceeds to ensure that we send the information related to this environmental review to all individuals, organizations, and government entities interested in and/or potentially affected by the proposed project.

Copies of the completed draft EIS will be sent to the environmental mailing list for public review and comment. If you would prefer to receive a paper copy of the document instead of the CD version or would like to remove your name from the mailing list, please return the attached Mailing List Form (Appendix 2).

Becoming an Intervenor

In addition to involvement in the EIS scoping process, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are included in the User's Guide under the “e-filing” link on the Commission's Web site.

Additional Information

Additional information about the project is available from the Commission's Office of External Affairs, at 1-866-208-FERC, or on the FERC Web site at (www.ferc.gov) using the “eLibrary” link. Click on the eLibrary link, click on “General Search” and enter the docket number, excluding the last three digits in the Docket Number field (i.e., CP13-502). Be sure you have selected an appropriate date range. For assistance, please contact FERC Online Support at FercOnlineSupport@ferc.gov or toll free at 1-866-208-3676, or for TTY, contact 1-202-502-8659. The eLibrary link on the FERC Internet Web site also provides access to the texts of formal documents issued by the Commission, such as orders, notices, and rule makings.

In addition, the Commission offers a free service called eSubscription that allows you to keep track of all formal issuances and submittals in specific dockets. This can reduce the amount of time you spend researching proceedings by automatically providing you with notification of these filings, document summaries, and direct links to the documents. Go to www.ferc.gov/esubscribenow.htm.

Finally, Iroquois has established an internet Web site for the project at http://www.iroquois.com/Project/WIP/. The Web site includes a description of the project, contact information, and copies of project filings. You can also request additional information or provide comments directly to Iroquois at 203-925-7209.

Dated: July 10, 2013.
Kimberly D. Bose,
Secretary.

[FR Doc. 2013-17000 Filed 7-15-13; 8:45 am]

BILLING CODE 6717-01-P